DEPARTMENT OF THE INTERIOR

National Park Service

National Register of Historic Places; Notification of Pending Nominations and Related Actions

Nominations for the following properties being considered for listing or related actions in the National Register were received by the National Park Service before January 6, 2007. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by February 7, 2007.

John W. Roberts,
Acting Chief, National Register/National Historic Landmarks Program.

COLORADO

Denver County

Stanley School—Montclair School, 1301 Quebec St., Denver, 07000038

IDAHO

Idaho County,

Campbell's Ferry, Frank Church River of No Return Wilderness, Riggins, 07000037

MARYLAND

Wicomico County

San Domingo School, 11526 Old School Rd, Sharpstown, 07000044

MISSOURI

Franklin County

Spaunhorst and Mayn Building, (Washington, Missouri MPS), 300-305 Jefferson St., Washington, 07000041

Barclay Building 3613-23 Broadway Blvd., Kansas City, 07000042

Kuehne—Schmidt Apartments, (Colonnade Apartment Buildings of Kansas City, MO MPS), 3737-39 and 3741-43 Main Sts., Kansas City, 07000040

Mainstreet Theatre, 1400 Main St., Kansas City, 07000043

Warren County

Southwestern Bell Repeater Station—Wright City, NE. corner of North Service Rd. and Bell Rd., Wright City, 07000039

NEW JERSEY

Cape May County

Rio Grande Station, 720 NJ 9, Lower Township, 07000047

Monmouth County

St. George's-by-the-River Episcopal Church, 7 Linoln Ave., Rumson, 07000045

Warren County

Blairstown Historic District, Main St., East Ave., Douglas St., Water St., Blair Place, Blairstown, 07000046

VIRGINIA

Accomack County

Pocomoke Farm, 7492 Monument Rd., VA 699, Sanford, 07000054

Bath County

Homestead Dairy Barns, USS 220, Warm Springs, 07000051

Yard, The, 381 Old Greenhouse Rd., Hot Springs, 07000050

King And Queen County

Marriott School, 450 Newtown Rd., St. Stevens Church, 07000052

Loudoun County

Sleepy Hollow Farm, 39902 Thomas Mill Rd., Leesburg, 07000048

Temple Hall, 15764 Temple Hall Ln., Leesburg, 07000053

Rockingham County

Kite Mansion, 17271 Spotswood Trail, Elkton, 07000049

[FR Doc. E7-852 Filed 1-22-07; 8:45 am]

BILLING CODE 4312-51-P